GENERAL SERVICES ADMINISTRATION

41 CFR Parts 101-37 and 1027-33

[FPMR Amendment G-117]

RIN 3090-AH63

Management of Government Aircraft

Correction

In rule document 02-26841 beginning on page 67742 in the issue of Wednesday, November 6, 2002, make the following correction:

§102-33.370 [Corrected]

On page 67757, in §102-33.370 (b), Table 2 is corrected to read as set forth below:

Table 2 for Disposing of Installed Life-Limited Parts
(1) If a life-limited part is installed in an aircraft or an engine, and it—
(i) Is documented with service life remaining— | Then | (A) You may exchange or sell the aircraft or engine, or GSA may tranfer the aircraft or engine to another executive agency under parts 102-36 and 102-39 of this subchapter B and the rules in this part; (B) GSA may donate the aircraft or engine for flight use; or (C) GSA may donate the aircraft or engine for ground use only, after you remove the part, mutilate it and mark it, “EXPIRED LIFE-LIMITED—NOT AIRWORTHY.” (Note: An internal engine part may be left installed, if, as a condition of the donation agreement, the receiving donee agrees to remove and mutilate the part, and mark it (the State Agency for Surplus Property must certify that the part has been multilated and marked)).
(ii) Is documented with no service life remaining, or undocumented— | Then | (A) You must remove and mutilate the part before you exchange or sell the aircraft or engine (see rules for disposing of uninstalled life-limited parts in Table 1 of paragraph (a) of this section). (Note: If an aircraft or engine is exchanged or sold to its OEM or PAH, you do not have to remove the expired life-limited part); (B) You must remove and mutilate it before GSA may transfer or donate the aircraft or engine for flight use (see the rules for disposing of uninstalled FSCAP in Table 1 in paragraph (a) of this section). (Note: An internal engine part may be left installed, if you identify the part individually to ensure that the receiving agency is aware of the part's service status and, as a condition of the transfer or donation agreement, the receiving agency agrees to remove and mutilate the part before the engine is put into service. You must certify mutilation for transfers, and the State Agency for Surplus Property must certify that the part has been mutilated for donations); or (C) GSA may donate the aircraft or engine for ground use only, after you remove the part, mutilate and mark it “EXPIRED LIFE-LIMITED—NOT AIRWORTHY.” (Note: An internal engine part may be left installed, if, as a condition of the donation agreement, the receiving agency agrees to remove and mutilate the part and mark it (the State Agency for Surplus Property must certify that the part has been mutilated and marked)).

[FR Doc. C2-26841 Filed 11-21-02; 8:45 am]

BILLING CODE 1505-01-D